DEPARTMENT OF DEFENSE

Department of the Army, Corps of Engineers

Withdrawal of the Notice of Intent To Prepare a Draft Environmental Impact Statement (DEIS) for the Riverport Development and Proposed New Interchange on I-95 in Jasper County, South Carolina

AGENCY: Department of the Army, U.S. Army Corps of Engineers, DoD.

ACTION: Notice of intent; withdrawal.

SUMMARY: The U.S. Army Corps of Engineers, Charleston District (the Corps) is issuing this notice to advise Federal, State, and local governmental agencies and the public that the Corps is withdrawing the notice of intent to prepare a Draft Environmental Impact Statement (DEIS) for the Riverport Development and Proposed New Interchange on I-95 in Jasper County, South Carolina.

DATES: The notice of intent to prepare a DEIS in the Federal Register on August 1, 2014 (79 FR 44756), is withdrawn as of January 23, 2025.

ADDRESSES: U.S. Army Corps of Engineers, Charleston District; Attn: Leslie Estill, 69A Hagood Avenue, Charleston, SC 29403.

FOR FURTHER INFORMATION CONTACT: For further information and/or questions about withdrawal of the Notice of Intent, please contact Leslie Estill, Project Manager, by email: Leslie.A.Estill@usace.army.mil, or by mail: Leslie Estill, Project Manager, Regulatory Division, 69A Hagood Avenue, Charleston, South Carolina 29403. For media inquiries, please contact the Corps, Charleston District Corporate Communications Officer (CCO), Ms. Glenn Jeffries by telephone: (843) 329-8123.

SUPPLEMENTARY INFORMATION: The Corps is evaluating an updated (third) DA permit application, dated September 27, 2022, from SLF III—Hardeeville, LLC (aka Stratford Land) for the Riverport-Exit 3 project (SAC-2010-00064) in accordance with Corps regulations and the policies and procedures that are established in the National Environmental Policy Act (NEPA). The proposed Riverport-Exit 3 project requires authorization under section 404 of the Clean Water Act (33 U.S.C. 1344), and the Corps previously advertised a public notice for the updated (third) DA permit application on November 23, 2022 (see https://www.sac.usace.army.mil/Missions/Regulatory/Public-Notices/Article-View/Article/3226964/sac-2010-00064/). The Riverport-Exit 3 project consists of the construction of a mixed-use development including industrial, commercial, civic, and residential uses. In detail, the proposed project is a master planned development at the 4,304.65-acre Riverport Tract situated north and south of I-95, with improvements to the existing two-lane Purrysburg Road as well as a new interchange with I-95 at Mile Marker 3. The residential development (including 3,339 residential dwelling units) would occupy the project area north of I-95, the commercial and civic development (2.6 million square feet of space to include restaurant and hotel, grocery store, hospital, and office/retail space) would be situated along both sides of the new interchange, and the industrial development (including over 10.6 million square feet of warehouse space) would occupy the southern portion of the site. A portion of Purrysburg Road would be replaced by the proposed Riverport Parkway, which would be a divided roadway for the length of the development, crossing I-95 at Exit 3 (proposed). The southern industrial portion of Riverport Parkway would be four-lanes, and the northern residential portion of Riverport Parkway would be two-lanes.

On August 1, 2014, the Corps issued a Notice of Intent to prepare a DEIS for the Riverport Development and Proposed New Interchange on I-95 in Jasper County, South Carolina (SAC-2010-00064) (the Riverport-Exit 3 project). Over the last ten years, the permit applicant, SLF III—Hardeeville, LLC (aka Stratford Land), has substantially modified the proposed master plan and the footprint of the proposed Riverport-Exit 3 project several times. As a result, the updated (third) Department of the Army (DA) permit application for the Riverport-Exit 3 project, dated September 27, 2022, has also changed substantially. For instance, the overall project footprint has decreased from 5,136 acres to approximately 4,304.65 acres, impacts to waters of the United States have decreased from 102.16 acres to 46.26 acres, and the mitigation plan has been updated to include an increase that results in obtaining 50% more credit than what is the required amount. Due to these developments, the Corps has elected to proceed with preparing an Environmental Assessment (EA) to evaluate the potential significance of the updated (third) DA permit application for the Riverport-Exit 3 project (see 40 CFR 1501.3(c)(2) and 1501.5(a)) and withdraw the notice of intent to prepare a DEIS for the earlier version of the project (see 33 CFR part 325, app. B., par. 8.g.).

Daniel H. Hibner,
Brigadier General, U.S. Army Corps of Engineers, South Atlantic Division.

[FR Doc. 2025-01529 Filed 1-22-25; 8:45 am]

BILLING CODE 3720-58-P